DEPARTMENT OF TRANSPORTATION

Surface Transportation Board

Release of Waybill Data

AGENCY: Surface Transportation Board, DOT.

ACTION: Release of Waybill Data; Correction.

SUMMARY: This document corrects a notice appearing in the Federal Register on January 5, 2012 (77 FR 551).

FOR FURTHER INFORMATION CONTACT: Marcin Skomial, (202) 245-0344.

SUPPLEMENTARY INFORMATION: On January 5, 2012, the Federal Register published a notice at 77 FR 551, which stated that “[t]he Surface Transportation Board has received a request from Neville Peterson LLP on behalf of Trinity Industries, Inc. (WB605-8-12/20/11) for permission to use certain data from the Board's 2009 Carload Waybill Sample.” The statement should read “[t]he Surface Transportation Board has received a request from Neville Peterson LLP on behalf of Trinity Industries, Inc. (WB605-8-12/20/11) for permission to use certain data from the Board's 2010 Carload Waybill Sample.” All other information remains unchanged.

Jeffrey Herzig,
Clearance Clerk.

[FR Doc. 2012-372 Filed 1-11-12; 8:45 am]

BILLING CODE 4915-01-P